DEPARTMENT OF HOMELAND SECURITY

Federal Emergency Management Agency

[Docket ID: FEMA-2009-0001]

Agency Information Collection Activities: Proposed Collection; Comment Request

AGENCY: Federal Emergency Management Agency, DHS.

ACTION: Notice; 60-day notice and request for comments; new information collection; OMB No. 1660-NEW2; FEMA Form 089-6, FRSGP Investment Justification.

SUMMARY: The Federal Emergency Management Agency, as part of its continuing effort to reduce paperwork and respondent burden, invites the general public and other Federal agencies to take this opportunity to comment on a proposed new information collection. In accordance with the Paperwork Reduction Act of 1995, this Notice seeks comments concerning the Freight Rail Security Grant Program (FRSGP).

DATES: Comments must be submitted on or before November 20, 2009.

ADDRESSES: To avoid duplicate submissions to the docket, please use only one of the following means to submit comments:

(1) Online. Submit comments at http://www.regulations.gov under docket ID FEMA-2009-0001. Follow the instructions for submitting comments.

(2) Mail. Submit written comments to Office of Chief Counsel, Regulation and Policy Team, DHS/FEMA, 500 C Street, SW., Room 835, Wash., DC 20472-3100.

(3) Facsimile. Submit comments to (703) 483-2999.

(4) E-mail. Submit comments to FEMA-POLICY@dhs.gov. Include docket ID FEMA-2009-0001 in the subject line.

All submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

FOR FURTHER INFORMATION CONTACT: Contact Alexander Mrazik, Program Analyst, Grant Programs Directorate, 202-786-9732 for additional information. You may contact the Records Management Branch for copies of the proposed collection of information at facsimile number (202) 646-3347 or e-mail address: FEMA-Information-Collections@dhs.gov.

SUPPLEMENTARY INFORMATION: The Freight Rail Security Grant Program (FRSGP) is a component of the Transit Security Grant Program (TSGP) and funds security training for railroad frontline employees, the completion of vulnerability assessments, the development of security plans and the acquisition of GPS tracking on railroad cars within the freight rail industry. The FRSGP is one tool among a comprehensive set of measures authorized by Congress and implemented by the Administration to help strengthen the Nation's critical infrastructure against risks associated with potential terrorist attacks.

The collection of information for FRSGP is mandated by section 1513, Title XV of the Implementing Recommendations of the 9/11 Commission Act of 2007 (6 U.S.C. 1163) which states that the Secretary, in consultation with the Administrator of the Transportation Security Administration and other appropriate agencies or officials, is authorized to make grants to railroad carriers, the Alaska Railroad, security-sensitive materials (SSM) offerors who ship by railroad, owners of railroad cars used in the transportation of security-sensitive materials, State and local governments (for railroad passenger facilities and infrastructure not owned by Amtrak), and Amtrak for intercity passenger railroad and freight railroad security improvements. Additionally, the Secretary shall determine the requirements for recipients of grants and may award grants based upon railroad carrier vulnerability assessments and security plans.

Collection of Information

Title: FEMA FY 2009 Preparedness Grants: Freight Rail Security Grant Program (FRSGP).

Type of Information Collection: New information collection.

OMB Number: OMB No. 1660-NEW2.

Form Titles and Numbers: FEMA Form 089-6, FRSGP Investment Justification.

Abstract: The FRSGP Investment Justification is submitted with the application which provides narrative details on proposed investments. These Investment Justifications must demonstrate how proposed projects address gaps and deficiencies in current programs and capabilities and the ability to provide enhancements consistent with the purpose of the program and guidance provided by FEMA. The data from the Investment Justification (IJ) is collected to assist decision-making at all levels, although, it is primarily used by individual application reviewers. FRSGP application data, including the IJ, is evaluated to determine which applications are the highest-scoring and address the program priorities stated in the grant guidance.

Affected Public: Business or other for-profit.

Estimated Total Annual Burden Hours: 9,600 hours.

Table A.12—Estimated Annualized Burden Hours and Costs
Type of respondent | Form name/form No. | Number of respondents | Number of responses per respondent | Avg. burden per response (in hours) | Total annual burden (in hours) | Avg. hourly wage rate* | Total annual respondent cost
Business or other for-profit | FRSGP Investment Justification, FEMA Form 089-6 | 400 | 1 | 24 hrs. | 9,600 | $30.31 | $290,976.00
Total |  | 400 |  |  | 9,600 |  | 290,976.00

Estimated Cost: There is no annual reporting recordkeeping cost associated with this collection.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Larry Gray,
Director, Records Management Division, Office of Management, Federal Emergency Management Agency, Department of Homeland Security.

[FR Doc. E9-22588 Filed 9-18-09; 8:45 am]

BILLING CODE 9111-78-P